DEPARTMENT OF THE INTERIOR

Bureau of Land Management

[UT-03000-1430-ER]

Notice of Intent To Consider a Plan Amendment and Prepare an Environmental Analysis for the Grand Staircase-Escalante National Monument Management Plan

AGENCY: Department of the Interior, Bureau of Land Management, Grand Staircase-Escalante National Monument, Utah.

ACTION: Notice of intent to consider a plan amendment and prepare an environmental analysis for the Grand Staircase-Escalante National Monument (GSENM) Management Plan to allow certain road improvements on the Hole-in-the-Rock Road.

SUMMARY: Pursuant to the Bureau of Land Management (BLM) Planning Regulations (43 CFR part 1600) this notice advises the public that the BLM, GSENM is considering amending the GSENM Management Plan in response to a proposal from Kane County to widen and upgrade the travel surface of the road known as the Hole in the Rock Road in Kane County, Utah. In addition, in accordance with the existing Monument Management Plan, consideration will be given to stabilization of washout prone areas, preventing erosion and sediment loading, and improving safety along the road. These proposed actions will be initially addressed through an environmental assessment. The scoping process will be used to help determine the appropriate level of environmental analysis (environmental impact statement (EIS) or environmental assessment.) If an EIS is warranted, the written comments in response to this notice may be used to help determine the scope of alternatives and analysis in the EIS. This notice initiates a 30-day public scoping period.

If you have information, data, or concerns related to the potential impacts of improving the Hole-in-the-Rock-Road, have comments on the planning criteria, or suggestions for alternatives, please submit them to the address below.

The Kane County Road Department has proposed improvements including widening the running surface of the road to a width of 26 feet with cut and fill slopes as needed, installing drainage structures (ditches, culverts etc.) as needed, and applying a gravel surface to the road. The improvements would be on the segment of road starting at the Kane/Garfield County line and south for approximately 18 miles.

DATES: Scoping comments must be received at the address below by October 25, 2002.

ADDRESSES: Written scoping comments should be sent to: Monument Manager, Grand Staircase-Escalante National Monument, 190 East Center Street, Kanab, Utah 84741. Planning documents and letters received, including names and street addresses of respondents, will be available for public review at the GSENM Office in Kanab, Utah during regular business hours (8 a.m. to 5 p.m.) Monday through Friday, except holidays. Individual respondents may request confidentiality. If you wish to withhold your name or street address from public review and disclosure under the Freedom of Information Act, you must state this prominently at the beginning of your written comment. Such requests will be honored to the extent allowed by law. All submissions from organizations or businesses, and from individuals identifying themselves as representatives or officials of organizations or businesses, will be made available for public inspection in their entirety.

If you are not currently on our mailing list and wish to receive a copy of future planning documents, please send your name and address to the address listed above.

FOR FURTHER INFORMATION CONTACT: Paul Chapman, Grand Staircase-Escalante National Monument, 435-644-4309, or Dave Hunsaker, Acting Monument Manager, 435-644-4330.

SUPPLEMENTARY INFORMATION: The proposed action is a cooperative effort between Kane County, Utah Department of Transportation, Federal Highways Administration, and BLM. BLM is the lead agency for this action. Kane County received a grant from Federal Highways Administration for engineering, design, environmental analysis preparation, and construction of the project. The environmental analysis is being prepared by a third party, EarthTouch of Layton, Utah with guidance from the BLM and Federal Highways Administration.

The BLM has identified the following planning criteria, which will guide development of the amendment:

1. The environmental analysis and any plan amendment will be completed in compliance with the Federal Land Policy and Management Act, the National Environmental Policy Act, and all other applicable laws.

2. The environmental analysis and any plan amendment will be developed using an interdisciplinary approach (e.g., a team approach using a variety of skills and perspectives such as biologists, archaeologists, etc.) with input from interested public, State and local governments, and other Federal agencies.

3. Any action that would affect a Wilderness Study Area will not be permitted.

4. Analysis and decisions in the environmental analysis and any plan amendment apply only to this action and will provide for the balance of long term sustainability with short-term uses.

Dated: August 13, 2002.
Robert A. Bennett,
Associate State Director, Utah.

[FR Doc. 02-24300 Filed 9-24-02; 8:45 am]

BILLING CODE 4310-$$-P